DEPARTMENT OF ENERGY

Federal Energy Regulatory Commission

Combined Notice of Filings #1

Take notice that the Commission received the following electric rate filings:

Docket Numbers: ER10-2881-037; ER10-2882-038; ER10-2883-036; ER10-2884-036; ER16-2509-007; ER17-2400-008; ER17-2401-008; ER17-2403-008; ER17-2404-008.

Applicants: Alabama Power Company, Georgia Power Company, Mississippi Power Company, Southern Power Company, Rutherford Farm, LLC, SP Butler Solar, LLC, SP Decatur Parkway Solar, LLC, SP Pawpaw Solar, LLC, SP Sandhills Solar, LLC.

Description: Notice of Non-Material Change in Status of Alabama Power Company, et al.

Filed Date: 2/8/21.

Accession Number: 20210208-5170.

Comments Due: 5 p.m. ET 3/1/21.

Docket Numbers: ER20-1683-004.

Applicants: Wabash Valley Power Association, Inc.

Description: Compliance filing: Compliance Filing of Amended Distributed Generation Policy D-11 to be effective 9/11/2020.

Filed Date: 2/9/21.

Accession Number: 20210209-5020.

Comments Due: 5 p.m. ET 3/2/21.

Docket Numbers: ER21-653-000; ER21-654-000.

Applicants: Centerfield Cooper Solar, LLC.

Description: Second Supplement to December 15, 2020 Centerfield Cooper Solar, LLC, et al.

Filed Date: 2/5/21.

Accession Number: 20210205-5196.

Comments Due: 5 p.m. ET 2/26/21.

Docket Numbers: ER21-1023-000.

Applicants: Thunderhead Wind Energy LLC.

Description: Request for Prospective Tariff Waiver of Thunderhead Wind Energy LLC.

Filed Date: 2/2/21.

Accession Number: 20210202-5138.

Comments Due: 5 p.m. ET 2/23/21.

Docket Numbers: ER21-1070-000.

Applicants: Upper Missouri G. & T. Electric Cooperation.

Description: § 205(d) Rate Filing: Revised Rate Schedules FERC to be effective 2/9/2021.

Filed Date: 2/8/21.

Accession Number: 20210208-5143.

Comments Due: 5 p.m. ET 3/1/21.

Docket Numbers: ER21-1071-000.

Applicants: Duke Energy Carolinas, LLC.

Description: § 205(d) Rate Filing: Wholesale Contract Revisions to Rate Schedule Nos. 330, 337, and 338 to be effective 1/1/2021.

Filed Date: 2/8/21.

Accession Number: 20210208-5161.

Comments Due: 5 p.m. ET 3/1/21.

Docket Numbers: ER21-1072-000.

Applicants: PJM Interconnection, L.L.C.

Description: Tariff Cancellation: Notice of Cancellation of WMPA, SA No. 5100; Queue No. AC1-212 to be effective 2/14/2021.

Filed Date: 2/9/21.

Accession Number: 20210209-5034.

Comments Due: 5 p.m. ET 3/2/21.

Docket Numbers: ER21-1073-000.

Applicants: DATC SLTP, LLC.

Description: Tariff Cancellation: Cancellation to be effective 3/11/2021.

Filed Date: 2/9/21.

Accession Number: 20210209-5108.

Comments Due: 5 p.m. ET 3/2/21.

Docket Numbers: ER21-1074-000.

Applicants: New York Independent System Operator, Inc.

Description: § 205(d) Rate Filing: 205: enhancements to economic planning process to be effective 4/11/2021.

Filed Date: 2/9/21.

Accession Number: 20210209-5122.

Comments Due: 5 p.m. ET 3/2/21.

Docket Numbers: ER21-1075-000.

Applicants: DATC Midwest Holdings, LLC.

Description: Tariff Cancellation: Cancellation to be effective 3/11/2021.

Filed Date: 2/9/21.

Accession Number: 20210209-5131.

Comments Due: 5 p.m. ET 3/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2021.
Nathaniel J. Davis, Sr.,
Deputy Secretary.

[FR Doc. 2021-03039 Filed 2-12-21; 8:45 am]

BILLING CODE 6717-01-P